SECURITIES AND EXCHANGE COMMISSION

[File No. 500-1]

Titan Resources International, Corp.; Order of Suspension of Trading

September 26, 2012.

It appears to the Securities and Exchange Commission that there is a lack of current and accurate information concerning the securities of Titan Resources International, Corp. (“Titan”). Titan is a Wyoming corporation purportedly based in Ontario, Canada. Questions have arisen concerning the adequacy and accuracy of press releases and other public statements concerning Titan's business operations and financial condition.

The Commission is of the opinion that the public interest and the protection of investors require a suspension of trading in the securities of Titan.

Therefore, it is ordered, pursuant to Section 12(k) of the Securities Exchange Act of 1934, that trading in the securities of the above-listed company is suspended for the period from 9:30 a.m. EDT, on September 26, 2012 through 11:59 p.m. EDT, on October 9, 2012.

By the Commission.
Jill M. Peterson,
Assistant Secretary.

[FR Doc. 2012-24050 Filed 9-26-12; 11:15 am]

BILLING CODE 8011-01-P